DEPARTMENT OF COMMERCE

National Oceanic and Atmospheric Administration

[RTID 0648-XA382]

North Pacific Fishery Management Council; Public Meeting

AGENCY: National Marine Fisheries Service (NMFS), National Oceanic and Atmospheric Administration (NOAA), Commerce.

ACTION: Notice of webconference.

SUMMARY: The North Pacific Fishery Management Council (Council) Scientific and Statistical Committee Subgroup (SSC Subgroup) will be held on August 28, 2020.

DATES: The meeting will be held on Friday, August 28, 2020, from 9 a.m. to 3 p.m., Alaska Time.

ADDRESSES: The meeting will be a webconference. Join online through the link at https://npfmc.adobeconnect.com/sscsubgroup/.

Council address: North Pacific Fishery Management Council, 1007 W 3rd Ave, Anchorage, AK 99501-2252; telephone: (907) 271-2809. Instructions for attending the meeting are given under SUPPLEMENTARY INFORMATION, below.

FOR FURTHER INFORMATION CONTACT: Diana Evans, Council staff; email: diana.evans@noaa.gov. For technical support, please contact our administrative staff; email: npfmc.admin@noaa.gov.

SUPPLEMENTARY INFORMATION:

Agenda

Friday, August 28, 2020

The SSC Subgroup will receive presentations from AFSC staff on planning for the 2021 Alaska surveys, and will discuss recommendations. The agenda is subject to change, and the latest version will be posted at https://meetings.npfmc.org/Meeting/Details/1583 prior to the meeting, along with meeting materials.

Connection Information

You can attend the meeting online using a computer, tablet, or smart phone; or by phone only. Connection information will be posted online at: https://meetings.npfmc.org/Meeting/Details/1583.

Public Comment

The SSC Subgroup will provide a short period for oral public testimony, public comment letters should be submitted electronically to https://meetings.npfmc.org/Meeting/Details/1583.

Special Accommodations

The meeting is physically accessible to people with disabilities. Requests should be directed to Shannon Gleason at (907) 903-3107 at least 7 working days prior to the meeting date.

(Authority: 16 U.S.C. 1801 et seq.)

Dated: August 11, 2020.
Tracey L. Thompson,
Acting Deputy Director, Office of Sustainable Fisheries, National Marine Fisheries Service.

[FR Doc. 2020-17871 Filed 8-13-20; 8:45 am]

BILLING CODE 3510-22-P